DEPARTMENT OF COMMERCE

International Trade Administration

[A-520-804]

Certain Steel Nails From the United Arab Emirates: Amended Final Determination of Sales at Less Than Fair Value and Antidumping Duty Order

AGENCY: Import Administration, International Trade Administration, Department of Commerce

DATES: Effective Date: May 10, 2012.

SUMMARY: Based on affirmative final determinations by the Department of Commerce (the Department) and the International Trade Commission (ITC), the Department is issuing an antidumping duty order on certain steel nails (nails) from the United Arab Emirates (UAE). In addition, the Department is amending its final determination to correct certain ministerial errors.

FOR FURTHER INFORMATION CONTACT: Dmitry Vladimirov or Minoo Hatten, AD/CVD Operations, Office 1, Import Administration, International Trade Administration, U.S. Department of Commerce, 14th Street and Constitution Avenue NW., Washington, DC 20230; telephone (202) 482-0665 or (202) 482-1690, respectively.

SUPPLEMENTARY INFORMATION:

Background

In accordance with sections 735(d) and 777(i)(1) of the Tariff Act of 1930, as amended (the Act), on March 23, 2012, the Department published the final determination of sales at less than fair value in the antidumping duty investigation of nails from the UAE. See Certain Steel Nails from the United Arab Emirates: Final Determination of Sales at Less Than Fair Value, 77 FR 17029 (March 23, 2012) (Final Determination). On May 2, 2012, the ITC notified the Department of its affirmative determination that an industry in the United States is materially injured within the meaning of section 735(b)(1)(A)(i) of the Act by reason of less-than-fair-value imports of nails from the UAE. See Certain Steel Nails from the United Arab Emirates, USITC Investigation No. 731-TA-1185 (Final), USITC Publication 4321 (May 2012).

Pursuant to section 736(a) of the Act, the Department is publishing an antidumping duty order on the subject merchandise.

Scope of the Order

The merchandise covered by this order includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this order are driven using direct force and not by turning the fastener using a tool that engages with the head. Point styles include, but are not limited to, diamond, blunt, needle, chisel and no point. Certain steel nails may be sold in bulk, or they may be collated into strips or coils using materials such as plastic, paper, or wire.

Certain steel nails subject to this order are currently classified under the Harmonized Tariff Schedule of the United States (HTSUS) subheadings 7317.00.55, 7317.00.65, and 7317.00.75.

Excluded from the scope of this order are steel nails specifically enumerated and identified in ASTM Standard F 1667 (2011 revision) as Type I, Style 20 nails, whether collated or in bulk, and whether or not galvanized.

Also excluded from the scope of this order are the following products:

• Non-collated (i.e., hand-drive or bulk), two-piece steel nails having plastic or steel washers (“caps”) already assembled to the nail, having a bright or galvanized finish, a ring, fluted or spiral shank, an actual length of 0.500″ to 8″, inclusive; an actual shank diameter of 0.1015″ to 0.166″, inclusive; and an actual washer or cap diameter of 0.900″ to 1.10″, inclusive;

• Non-collated (i.e., hand-drive or bulk), steel nails having a bright or galvanized finish, a smooth, barbed or ringed shank, an actual length of 0.500″ to 4″, inclusive; an actual shank diameter of 0.1015″ to 0.166″, inclusive; and an actual head diameter of 0.3375″ to 0.500″, inclusive;

• Wire collated steel nails, in coils, having a galvanized finish, a smooth, barbed or ringed shank, an actual length of 0.500″ to 1.75″, inclusive; an actual shank diameter of 0.116″ to 0.166″, inclusive; and an actual head diameter of 0.3375″ to 0.500″, inclusive;

• non-collated (i.e., hand-drive or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive;

• Corrugated nails. A corrugated nail is made of a small strip of corrugated steel with sharp points on one side;

• Thumb tacks, which are currently classified under HTSUS 7317.00.10.00;

• Fasteners suitable for use in powder-actuated hand tools, not threaded and threaded, which are currently classified under HTSUS 7317.00.20 and 7317.00.30;

• Certain steel nails that are equal to or less than 0.0720 inches in shank diameter, round or rectangular in cross section, between 0.375 inches and 2.5 inches in length, and that are collated with adhesive or polyester film tape backed with a heat seal adhesive; and

• Fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this order is dispositive.

Amendment to the Final Determination

On March 23, 2012, the Department published its affirmative final determination in this proceeding. See Final Determination. On March 26, 2012, the respondents in the investigation, Dubai Wire FZE and Precision Fasteners LLC, submitted timely ministerial error allegations and requested, pursuant to 19 CFR 351.224, that the Department correct the alleged ministerial errors in the dumping margin calculations. On March 30, 2012, the petitioner in this proceeding, Mid Continent Nail Corporation, filed rebuttal comments. No other interested party submitted ministerial error allegations or rebuttal comments.

After analyzing all interested party comments and rebuttals, we have determined, in accordance with section 735(e) of the Act and 19 CFR 351.224(e), that we made a ministerial error in our calculations for the Final Determination with respect to both companies. Specifically, we calculated the constructed value (CV) profit ratio on a basis different from how it was applied in the margin calculations in deriving a value for CV profit. For a detailed discussion of the alleged ministerial errors, as well as the Department's analysis, see Memorandum to Paul Piquado, Assistant Secretary for Import Administration, from Christian Marsh, Deputy Assistant Secretary for Antidumping and Countervailing Duty Operations, entitled, “Ministerial Error Allegations in the Final Determination of the Antidumping Duty Investigation of Certain Steel Nails from the United Arab Emirates: Precision Fasteners, LLC and Dubai Wire FZE,” dated April 23, 2012 (Ministerial Error Memo). After correcting the aforementioned ministerial error, the amended weighted average dumping margins changed from 2.80 to 2.51 percent for Precision Fasteners LLC and from 6.29 to 6.09 percent for Dubai Wire FZE.¹

¹ In the Ministerial Error Memo, the amended weighted average margin for Precision Fasteners LLC was stated inadvertently as 2.52 percent, rather than 2.51 percent. See Memorandum to File entitled “Antidumping Duty Investigation on Certain Steel Nails from the United Arab Emirates: Analysis Memorandum for Precision Fasteners, LLC with respect to the Ministerial Errors in the Final Determination,” dated April 23, 2012; and Memorandum to File entitled “Certain Steel Nails from the United Arab Emirates—Correction to April 23, 2012, Memorandum,” dated May 1, 2012.

In the Final Determination, pursuant to section 735(c)(5)(A) of the Act, we determined the estimated all-others rate as a simple-average of the weighted-average dumping margins we determined for Dubai Wire FZE and Precision Fasteners LLC. See Final Determination. Because the weighted-average dumping margins for both companies changed as a result of the aforementioned ministerial error, we have amended the all-others rate accordingly. The amended all-others rate is provided below.

Antidumping Duty Order

As stated above, on May 2, 2012, in accordance with section 735(d) of the Act, the ITC notified the Department of its final determination in this investigation, in which it found material injury with respect to nails from the UAE. Because the ITC determined that imports of nails from the UAE are materially injuring a U.S. industry, all unliquidated entries of such merchandise from the UAE, entered or withdrawn from warehouse, are subject to the assessment of antidumping duties.

Therefore, in accordance with section 736(a)(1) of the Act, the Department will direct U.S. Customs and Border Protection (CBP) to assess, upon further instruction by the Department, antidumping duties equal to the amount by which the normal value of the merchandise exceeds the export price (or constructed export price) of the merchandise, for all relevant entries of nails from the UAE. These antidumping duties will be assessed on unliquidated entries of nails from the UAE entered, or withdrawn from warehouse, for consumption on or after November 3, 2011, the date on which the Department published its Preliminary Determination,² but will not include entries occurring after the expiration of the provisional measures period and before publication of the ITC's final injury determination as further described below.

² See Certain Steel Nails from the United Arab Emirates: Preliminary Determination of Sales at Less Than Fair Value and Postponement of Final Determination, 76 FR 68129 (November 3, 2011) (Preliminary Determination).

Continuation of Suspension of Liquidation

In accordance with section 735(c)(1)(B) of the Act, we will instruct CBP to continue to suspend liquidation on all entries of nails from the UAE. We will also instruct CBP to require cash deposits equal to the estimated amount by which the normal value exceeds the U.S. price as indicated below. These instructions suspending liquidation will remain in effect until further notice.

Accordingly, effective on the date of publication of the ITC's final affirmative injury determination, CBP will require, at the same time as importers would normally deposit estimated duties on this subject merchandise, a cash deposit equal to the estimated weighted-average antidumping duty margins listed below. See section 736(a)(3) of the Act.

Provisional Measures

Section 733(d) of the Act states that instructions issued pursuant to an affirmative preliminary determination may not remain in effect for more than four months except where exporters representing a significant proportion of exports of the subject merchandise request the Department to extend that four-month period to no more than six months. At the request of exporters that account for a significant proportion of exports of nails from the UAE, we extended the four-month period to no more than six months. See letters from Dubai Wire FZE and Precision Fasteners LLC, both dated October 4, 2011. In the underlying investigation, the Department published the Preliminary Determination on November 3, 2011. See Preliminary Determination. Therefore, the six-month period beginning on the date of the publication of the Preliminary Determination ended on May 1, 2012. Furthermore, section 737(b) of the Act states that definitive duties are to begin on the date of publication of the ITC's final injury determination.

Therefore, in accordance with section 733(d) of the Act and our practice, we will instruct CBP to terminate the suspension of liquidation and to liquidate, without regard to antidumping duties, unliquidated entries of nails from the UAE entered, or withdrawn from warehouse, for consumption after May 1, 2012, the date provisional measures expired, and through the day preceding the date of publication of the ITC's final injury determination in the Federal Register. Suspension of liquidation will resume on and after the date of publication of the ITC's final injury determination in the Federal Register.

The weighted-average dumping margins are as follows:

Manufacturer/exporter | Weighted- average margin (percent)
Dubai Wire FZE | 6.09
Precision Fasteners LLC | 2.51
Tech Fast International Ltd | 184.41
All Others | 4.30

This notice constitutes the antidumping duty order with respect to nails from the UAE pursuant to section 736(a) of the Act. Interested parties may contact the Department's Central Records Unit, Room 7043 of the main Commerce building, for copies of an updated list of antidumping duty orders currently in effect.

This order and amended final determination are published in accordance with sections 736(a) and 735(e) of the Act and 19 CFR 351.211 and 351.224(e).

Dated: May 4, 2012.
Ronald K. Lorentzen,
Acting Assistant Secretary for Import Administration.

[FR Doc. 2012-11340 Filed 5-9-12; 8:45 am]

BILLING CODE 3510-DS-P